DEPARTMENT OF COMMERCE

National Oceanic and Atmospheric Administration

RIN 0648-XF685

North Pacific Fishery Management Council; Public Meeting

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet October 2 through October 10, 2017.

DATES: The meetings will be held Monday, October 2 through Tuesday, October 10, 2017. See SUPPLEMENTARY INFORMATION for specific dates and times of the meetings.

ADDRESSES: The meeting will be held at the Anchorage Hilton Hotel, 500 W. 3rd Ave., Anchorage, AK 99501.

Council address: North Pacific Fishery Management Council, 605 W. 4th Ave., Suite 306, Anchorage, AK 99501-2252; telephone (907) 271-2809.

FOR FURTHER INFORMATION CONTACT: David Witherell, Council staff; telephone: (907) 271-2809.

SUPPLEMENTARY INFORMATION: The Council will begin its plenary session at 8 a.m. in the Aleutian Room on Wednesday, October 4, continuing through Tuesday, October 10, 2017. The Scientific and Statistical Committee (SSC) will begin at 8 a.m. in the King Salmon/Iliamna Room on Monday, October 2 and continue through Wednesday, October 4, 2017. The Council's Advisory Panel (AP) will begin at 8 a.m. in the Dillingham/Katmai Room on Tuesday, October 3, and continue through Saturday, October 7, 2017. The IFQ Committee will meet October 2, 10 a.m. to 5 p.m. (Room to be Determined); the Enforcement Committee will meet October 3, 2017, 1 p.m. to 4 p.m. (Room TBD); the Legislative Committee will meet October 3, 2017, 1 p.m. to 4 p.m. (Room TBD); and the Halibut Charter Management Committee will meet Tuesday, October 10, noon to 4 p.m. (Room TBD).

Agenda

Monday, October 2, 2017 Through Tuesday, October 10, 2017

Council Plenary Session: The agenda for the Council's plenary session will include the following issues as well as an executive session. The Council may take appropriate action on any of the issues identified.

(1) Executive Director's Report (including a discussion of timing of allocation reviews; report on St. Paul Outreach meetings)

(2) NMFS Management Report (including Draft EM policy directive, ACLIM update, Deep Sea Corals report (T), clarification on rulemaking for recent TLAS and squid actions (T); Adak pollock report (T))

(3) NOAA GC report (including conflict of interest review)

(4) ADF&G Report (including Chinook salmon 3-river index projection)

(5) USCG Report

(6) USFWS Report

(7) Protected Species Report (including a Northern Fur Seal Synthesis)

(8) Charter Halibut Annual Permit Registration—Initial Review

(9) Mixing of Guided and Unguided Halibut—Initial Review

(10) BSAI Crab Specifications for 6 stocks—Final Specifications

(11) Groundfish Harvest Specifications—Proposed Specifications

(12) Observer tendering issue; low sampling rates—OAC report

(13) 2018 Observer Program Annual Deployment Plan—Review; OAC and EMWG Reports

(14) GOA Rockfish Program Review—Review

(15) Salmon FMP Amendment—Expanded discussion paper

(16) Halibut Abundance-based PSC Limits—Discussion paper

(17) Halibut Decksorting EFP and Halibut Genetics Sampling EFP—Review

(18) IFQ Committee Report including data review of small unfished quota and quota migration

(19) Halibut Retention in Sablefish Pots—Discussion paper

(20) Staff Tasking

The Advisory Panel will address most of the same agenda issues as the Council except items 1-7.

The SSC agenda will include the following issues:

(1) BSAI Crab Specifications for 6 stocks—Final Specifications

(2) Groundfish Harvest Specifications—Proposed Specifications

(3) 2018 Observer Program Annual Deployment Plan—Review

(4) GOA Rockfish Program Review—Review

(5) Halibut Abundance-based PSC Limits—Discussion paper

(6) Halibut Decksorting EFP and Halibut Genetics Sampling EFP—Review

In addition to providing ongoing scientific advice for fishery management decisions, the SSC functions as the Council's primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: September 7, 2017.
Jeffrey N. Lonergan,
Acting Deputy Director, Office of Sustainable Fisheries, National Marine Fisheries Service.

[FR Doc. 2017-19319 Filed 9-11-17; 8:45 am]

BILLING CODE 3510-22-P